ENVIRONMENTAL PROTECTION AGENCY

[FRL-9653-4]

Clean Water Act Section 303(d): Proposed Withdrawal of Nine Total Maximum Daily Loads (TMDLs)

AGENCY: Environmental Protection Agency (EPA).

ACTION: Notice of proposed withdrawal of nine TMDLs.

SUBJECT: The EPA hereby issues notice of the proposed withdrawal of nine final Total Maximum Daily Loads (TMDLs) for Chloride, Sulfate, and Total Dissolved Solids (TDS) for the Bayou de L'Outre Watershed in Arkansas. The EPA proposes to withdraw the Bayou de L'Outre TMDLs due to the discovery of inconsistencies in the values used to derive the flow and load duration curves, resulting in the calculation of TMDLs which do not accurately reflect the loading capacity of the segments. Any future withdrawal action will not affect seven final TMDLs published under the same Federal Register notice (see 76 FR 52947) which pertain to segments 08040203-010, 08040204-006, and 08040206-015, -016, -716, -816, -916.

DATES: Comments on the proposed withdrawal action must be submitted in writing to the EPA on or before April 27, 2012.

ADDRESSES: Comments on the proposed withdrawal action of the Bayou de L'Outre TMDLs should be sent to Diane Smith, Environmental Protection Specialist, Water Quality Protection Division, U.S. Environmental Protection Agency Region 6, 1445 Ross Avenue Dallas, TX 75202-2733, or emailed to smith.diane@epa.gov. The administrative record files for the nine TMDLs are available for public inspection at the previously listed address. Please contact Diane Smith (via mail, email, or by calling (214) 665-2145) to schedule an inspection or to obtain copies of relevant supporting documents. Documents from the administrative record files may also be viewed at http://www.epa.gov/region6/water/npdes/tmdl/index.htm.

SUPPLEMENTARY INFORMATION: The TMDLs were developed under EPA Contract Number 68-C-02-108. The Federal Register notice of availability, seeking public comments on the draft TMDLs, was published on December 17, 2007 (see 72 FR 71409). Public comments were received by January 16, 2008, and a response to each comment was provided. The Federal Register notice of availability for the final TMDLs was published on August 24, 2011 (see 76 FR 52947). The nine pollutant pairs for Bayou de L'Outre subject to the proposed withdrawal are as follows.

Segment (reach) | Waterbody name | Pollutant
08040202-006 | Bayou de L'Outre | Chloride, Sulfate, TDS.
08040202-007 | Bayou de L'Outre | Chloride, Sulfate, TDS.
08040202-008 | Bayou de L'Outre | Chloride, Sulfate, TDS.

The 2008 Arkansas Clean Water Act (CWA) Section 303(d) list of impaired waters is the current EPA approved list, and includes the three Bayou de L'Outre segments addressed by this action. Any future withdrawal action of the aforementioned TMDLs will not affect the listing of those segments.

FOR FURTHER INFORMATION CONTACT: Diane Smith, Environmental Protection Specialist, Water Quality Protection Division, U.S. EPA Region 6, 1445 Ross Avenue, Dallas, TX 75202-2733, (214) 665-2145.

Dated: March 21, 2012.
William K. Honker,
Acting Director, Water Quality Protection Division, EPA Region 6.

[FR Doc. 2012-7442 Filed 3-27-12; 8:45 am]

BILLING CODE 6560-50-P